NATIONAL AERONAUTICS AND SPACE ADMINISTRATION

[Notice: (15-100)]

NASA Advisory Council; Ad Hoc Task Force on STEM Education; Meeting.

AGENCY: National Aeronautics and Space Administration.

ACTION: Notice of Meeting.

SUMMARY: In accordance with the Federal Advisory Committee Act, Public Law 92-463, as amended, the National Aeronautics and Space Administration announces a meeting of the Ad Hoc Task Force on Science, Technology, Engineering and Mathematics (STEM) of the NASA Advisory Council (NAC). This Task Force reports to the NAC.

DATES: Thursday, November 19, 2015, 1:00 p.m. to 3:30 p.m., EST.

FOR FURTHER INFORMATION CONTACT: Dr. Beverly Girten, Executive Secretary for the NAC Ad Hoc Task Force on STEM Education, NASA Headquarters, Washington, DC 20546, 202-358-0212, or beverly.e.girten@nasa.gov.

SUPPLEMENTARY INFORMATION: The meeting will be available telephonically and by WebEx. You must use a touch tone phone to participate in this meeting. Any interested person may dial the toll free access number 844-467-6272 or toll access number 720-259-6462, and then the numeric participant passcode: 329152 followed by the # sign. To join via, the link is https://nasa.webex.com/, the meeting number is 993 181 607 and the password is Educate1! (Password is case sensitive.) NOTE: If dialing in, please “mute” your telephone. The agenda for the meeting will include the following:

—Opening Remarks by Chair

—Review and Discuss Topics Identified for Development of Findings

—Review and Discuss Topics for Development of Recommendations

—Determine Priorities of Findings and Recommendations

—Formulate Top Findings and Recommendations

—Other Related Topics

It is imperative that the meeting be held on this date to accommodate the scheduling priorities of the key participants.

Patricia D. Rausch,
Advisory Committee Management Officer, National Aeronautics and Space Administration.

[FR Doc. 2015-27873 Filed 11-2-15; 8:45 am]

BILLING CODE 7510-13-P